DEPARTMENT OF TRANSPORTATION

Federal Aviation Administration

14 CFR Part 39

[Docket No. FAA-2008-1019; Directorate Identifier 2007-NE-49-AD; Amendment 39-16104; AD 2009-24-12]

RIN 2120-AA64

Airworthiness Directives; Honeywell International Inc. LTS101 Series Turboshaft and LTP101 Series Turboprop Engines

AGENCY: Federal Aviation Administration (FAA), DOT.

ACTION: Final rule.

SUMMARY: The FAA is adopting a new airworthiness directive (AD) for Honeywell International Inc. LTS101 series turboshaft and LTP101 series turboprop engines with certain gas generator turbine discs installed. This AD requires reducing the life limits for certain gas generator turbine discs. This AD results from an error in a change to the engineering drawing for the gas generator turbine disc from which Honeywell manufactured 260 discs. We are issuing this AD to prevent rupture of the gas generator turbine disc, which could result in uncontained engine failure and damage to the aircraft.

DATES: This AD becomes effective January 4, 2010. The Director of the Federal Register approved the incorporation by reference of certain publications listed in the regulations as of January 4, 2010.

ADDRESSES: The Docket Operations office is located at Docket Management Facility, U.S. Department of Transportation, 1200 New Jersey Avenue, SE., West Building Ground Floor, Room W12-140, Washington, DC 20590-0001.

FOR FURTHER INFORMATION CONTACT: Robert Baitoo, Aerospace Engineer, Los Angeles Aircraft Certification Office, FAA, Transport Airplane Directorate, 3960 Paramount Blvd., Lakewood, CA 90712-4137; e-mail: robert.baitoo@faa.gov; telephone (562) 627-5245; fax (562) 627-5210.

You can get the service information identified in this AD from Honeywell International Inc., P.O. Box 52181, Phoenix, AZ 85072-2181; telephone (800) 601-3099 (U.S.A.) or (602) 365-3099 (International); or go to: https://portal.honeywell.com/wps/portal/aero.

SUPPLEMENTARY INFORMATION: The FAA proposed to amend 14 CFR part 39 with a proposed AD. The proposed AD applies to Honeywell International Inc. LTS101 series turboshaft and LTP101 series turboprop engines with certain gas generator turbine discs installed. We published the proposed AD in the Federal Register on September 25, 2008 (73 FR 55456). That action proposed to require removing any disc, part number (P/N) 4-111-015-14 that has a serial number (SN) listed in Appendix 1 of Honeywell International Inc. Service Bulletin LT 101-71-00-0002, Revision 25, dated August 31, 2007, using the drawdown schedules specified in Table 1 of the proposed AD.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We have considered the comments received.

Request To Add All Affected Engine Models to Compliance Paragraphs

One commenter asks us to add all affected engine models to the compliance and installation prohibition paragraphs to be consistent with the applicability paragraph.

We agree. We changed Table 1 and paragraphs (f) and (g) of this AD to specify LTS101-600, -650, and -750 series turboshaft engines.

Request To Increase the Costs To Comply With This AD

The same commenter asks us to increase the estimated Costs of Compliance. The commenter perceives that the compliance cost is underestimated.

We don't agree. The proposed AD correctly estimates 1.0 work-hour per engine to cover the time for revising the records to reflect the disc life limit reduction and drawdown schedules. The $8,000 figure in the proposed rule is the estimated prorated cost of life limit of the disc. We did not change the AD.

Reference to Revised Service Information

Since we published the proposed AD in the Federal Register, we determined that Honeywell International Inc. issued revised Service Bulletin (SB) LT 101-71-00-0002. We have approved that SB revision, and changed all SB references from Revision 25, dated August 31, 2007, to Revision 26, dated April 2, 2008, in this AD.

Conclusion

We have carefully reviewed the available data, including the comments received, and determined that air safety and the public interest require adopting the AD with the changes described previously. We have determined that these changes will neither increase the economic burden on any operator nor increase the scope of the AD.

Costs of Compliance

We estimate that this AD will affect 260 engines installed on aircraft of U.S. registry. We also estimate that it will take 1.0 work-hour per engine to perform the proposed actions, and that the average labor rate is $80 per work-hour. Required parts will cost about $8,000 per engine. Based on these figures, we estimate the total cost of this AD to U.S. operators to be $2,100,800.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2009-24-12 Honeywell International Inc. (Formerly AlliedSignal, Textron Lycoming, and Avco Lycoming): Amendment 39-16104. Docket No. FAA-2008-1019; Directorate Identifier 2007-NE-49-AD.

Effective Date

(a) This airworthiness directive (AD) becomes effective January 4, 2010.

Affected ADs

(b) None.

Applicability

(c) This AD applies to Honeywell International Inc. models LTS101-600A-2, -600A-3, -600A-3A, -650B-1, -650B-1A, -650C-2, -650C-3, -650C-3A, -750A-1, -750A-3, -750B-1, -750B-2, and -750C-1 turboshaft engines and LTP101-600A-1A and -700A-1A turboprop engines with certain gas generator turbine discs, part number (P/N) 4-111-015-14, installed. These engines are installed on, but not limited to, Eurocopter France AS350, Eurocopter Deutchland GMBH BK117, and Bell Helicopter Textron 222 helicopters; and Page Thrush, Air Tractor AT-302, Industrie Aeronautiche e Meccaniche (formerly Piaggio & Co.) P166-DL3, Pacific Aero 08-600, and Riley International R421 airplanes.

Unsafe Condition

(d) This AD results from an error in a change to the engineering drawing for the gas generator turbine disc from which Honeywell manufactured 260 discs. We are issuing this AD to prevent rupture of the gas generator turbine disc, which could result in uncontained engine failure and damage to the aircraft.

Compliance

(e) You are responsible for having the actions required by this AD performed within the compliance times specified unless the actions have already been done.

Drawdown Schedule and New Reduced Life Limit for Certain Gas Generator Turbine Discs

(f) For model LTS101-600, -650, and -750 series turboshaft engines and model LTP101-600A-1A and -700A-1A turboprop engines that have a gas generator turbine disc serial number (SN) specified in Appendix 1 of Honeywell International Inc. Service Bulletin (SB) LT 101-71-00-0002, Revision 26, dated April 2, 2008, remove the engine using the drawdown schedule specified in Table 1 of this AD.

Table 1—Drawdown Schedule
Engine Model | If disc cycle count on the effective date of this AD is | Then remove disc
(1) LTS101-600, -650, and -750 series turboshaft engines. | >(i) Fewer than 4,940 cycles-since-new (CSN). | Before accumulating 5,040 CSN.
| (ii) 4,940 or more CSN. | Within 100 cycles-in-service (CIS).
>(2) LTP101-600A-1A and -700A-1A turboprop engines. | (i) Fewer than 2,720 CSN. (ii) 2,720 or more CSN. | Before accumulating 2,770 CSN. Within 50 CIS.

Installation Prohibitions

(g) After the effective date of this AD, don't install any model LTS101-600, -650, or -750 series turboshaft engine that has a gas generator turbine disc, P/N 4-111-015-14, with a SN listed in Appendix 1 of Honeywell International Inc. SB LT 101-71-00-0002, Revision 26, dated April 2, 2008; if that disc has 5,040 or more CSN.

(h) After the effective date of this AD, don't install any model LTP101-600A-1A or -700A-1A turboprop engine that has a gas generator turbine disc, P/N 4-111-015-14, with a SN listed in Appendix 1 of Honeywell International Inc. SB LT 101-71-00-0002, Revision 26, dated April 2, 2008; if that disc has 2,770 or more CSN.

Alternative Methods of Compliance

(i) The Manager, Los Angeles Aircraft Certification Office, has the authority to approve alternative methods of compliance for this AD if requested using the procedures found in 14 CFR 39.19.

Related Information

(j) Contact Robert Baitoo, Aerospace Engineer, Los Angeles Aircraft Certification Office, FAA, Transport Airplane Directorate, 3960 Paramount Blvd., Lakewood, CA 90712-4137; e-mail: robert.baitoo@faa.gov; telephone (562) 627-5245; fax (562) 627-5210, for more information about this AD.

Material Incorporated by Reference

(k) You must use Appendix 1 of Honeywell International Inc. Service Bulletin LT 101-71-00-0002, Revision 26, dated April 2, 2008, to determine the gas generator turbine disc serial numbers affected by this AD. The Director of the Federal Register approved the incorporation by reference of this service bulletin in accordance with 5 U.S.C. 552(a) and 1 CFR part 51. Contact Honeywell International Inc., P.O. Box 52181, Phoenix, AZ 85072-2181; telephone (800) 601-3099 (U.S.A.) or (602) 365-3099 (International); or go to: https://portal.honeywell.com/wps/portal/aero, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Issued in Burlington, Massachusetts, on November 18, 2009.
Peter A. White,
Assistant Manager, Engine and Propeller Directorate, Aircraft Certification Service.

[FR Doc. E9-28235 Filed 11-27-09; 8:45 am]

BILLING CODE 4910-13-P